DEPARTMENT OF VETERANS AFFAIRS

Notice of Performance Review Board Members

AGENCY: Corporate Senior Executive Management Office, Department of Veterans Affairs.

ACTION: Notice.

SUMMARY: Agencies are required to publish a notice in the Federal Register of the appointment of Performance Review Board (PRB) members. This notice announces the appointment of individuals to serve on the PRB of the Department of Veterans Affairs.

DATES: This appointment is effective June 10, 2022.

ADDRESSES: Corporate Senior Executive Management Office, Department of Veterans Affairs, 810 Vermont Avenue NW, Washington, DC 20420.

FOR FURTHER INFORMATION CONTACT: Carrie M. Johnson-Clark, Executive Director, Corporate Senior Executive Management Office (006D), Department of Veterans Affairs, 810 Vermont Avenue NW, Washington, DC 20420, 202-632-5181.

SUPPLEMENTARY INFORMATION: The membership of the Department of Veterans Affairs Performance Review Board is as follows:

Bradsher, Tanya—Chair

Arnold, Kenneth

Billups, Angela

Bocchicchio, Alfred

Boerstler, John

Bonjorni, Jessica

Brubaker, Paul

Burke, Ronald

Christy, Phillip W.

Clark, Willie

Czarnecki, Tammy

Eskenazi, Laura

Flint, Sandra

Galvin, Jack

Gigliotti, Ralph

Hogan, Michael

Hipolit, Richard

Lilly, Ryan

Llorente, Maria

Marsh, Willie Clyde

Mattison-Brown, Valerie

McInerney, Joan

Pape, Lisa

Pope, Derwin B.

Rawls, Cheryl

Rychalski, John

Simpson, Todd

Terrell, Brandye

Thomas, Lisa

Tibbits, Paul

Young, Stephanie

Authority: 5 U.S.C. 4314(c)(4).

Signing Authority

Denis McDonough, Secretary of Veterans Affairs, approved this document on June 6, 2022, and authorized the undersigned to sign and submit the document to the Office of the Federal Register for publication electronically as an official document of the Department of Veterans Affairs.

Luvenia Potts,
Regulations Development Coordinator, Office of Regulation Policy & Management, Office of General Counsel, Department of Veterans Affairs.

[FR Doc. 2022-12576 Filed 6-9-22; 8:45 am]

BILLING CODE 8320-01-P